DEPARTMENT OF THE TREASURY

Agency Information Collection Activities; Submission for OMB Review; Comment Request; Employer's Annual Employment Tax Return

AGENCY: Departmental Offices, U.S. Department of the Treasury.

ACTION: Notice.

SUMMARY: The Department of the Treasury will submit the following information collection request to the Office of Management and Budget (OMB) for review and clearance in accordance with the Paperwork Reduction Act of 1995, on or after the date of publication of this notice. The public is invited to submit comments on these requests.

DATES: Comments must be received on or before March 14, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

Internal Revenue Service (IRS)

Title: Employer's Annual Employment Tax Return.

OMB Control Number: 1545-2007.

Type of Review: Revision of a currently approved collection.

Description: The information on Form 944 will be collected to ensure the smallest nonagricultural and non-household employers are paying the correct amount of social security tax, Medicare tax, and withheld federal income tax. Information on line 13 will be used to determine if employers made any required deposits of these taxes. Form 944 (SP) is the Spanish version of the Form 944. Form 944-X and Form 944-X(SP) are used to correct errors made on Form 944.

Current Actions: Changes to the existing collection include: Lines added to Form 944-X and Form 944-X (SP) to match the changes made in the last revision of Form 944 and Form 944 (SP). The new lines are for reporting corrections of the credits allowed by provisions of the American Rescue Plan Act of 2021, Public Law 117-2, claimed on Form 944 and Form 944 (SP).

Form Numbers: IRS Form 944, IRS Form 944 (SP), IRS Form 944-X, and IRS Form 944-X (SP).

Affected Public: Individuals or households; Businesses or other for-profit institutions; Not-for-profit institutions; and State, Local and Tribal governments.

Estimated Number of Respondents: 135,884.

Frequency of Response: Annually.

Estimated Total Number of Annual Responses: 135,884.

Estimated Time per Response: 23 hours 36 minutes.

Estimated Total Annual Burden Hours: 3,207,532 hours.

Authority: 44 U.S.C. 3501 et seq.

Dated: February 7, 2022.
Molly Stasko,
Treasury PRA Clearance Officer.

[FR Doc. 2022-02861 Filed 2-9-22; 8:45 am]

BILLING CODE 4830-01-P